DEPARTMENT OF THE TREASURY

Internal Revenue Service

26 CFR Part 1

[TD 9866]

RIN 1545-BO54; 1545-BO62

Guidance Related to Section 951A (Global Intangible Low-Taxed Income) and Certain Guidance Related to Foreign Tax Credits

Correction

In rule document C1-2019-12437, appearing on page 44223 in the issue of Friday, August 23, 2019 make the following corrections in § 1.951-1:

§ 1.951-1 [Corrected]

1. In the center column, in instruction 2, on the second line, “(b)(2)(vi)(B)(1)” should read “(b)(2)(vi)(B)(1)”.

2. In the same column, in the same instruction, the table heading “TABLE 1 TO PARAGRAPH (b)(2)(vi)(B)(1)” should read “TABLE 1 TO PARAGRAPH (b)(2)(vi)(B)(1)”.

[FR Doc. C2-2019-12437 Filed 10-3-19; 8:45 am]

BILLING CODE 1300-01-D